DEPARTMENT OF HOMELAND SECURITY

Coast Guard

[Docket No. USCG-2015-0268]

Certificate of Alternative Compliance for the P/V LUCIA, 1257462

AGENCY: Coast Guard, DHS.

ACTION: Notice.

SUMMARY: The Coast Guard announces that a Certificate of Alternative Compliance was issued for the passenger vessel LUCIA as required by 33 U.S.C. 1605(c) and 33 CFR 81.18.

DATES: The Certificate of Alternative Compliance was issued on April 3, 2015.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2015-0268 in the “Keyword” box, and then clicking “Search.”

FOR FURTHER INFORMATION CONTACT: If you have questions on this notice, call LT Steven Melvin, District Nine, Prevention Branch, U.S. Coast Guard, telephone 216-902-6343. If you have questions on viewing or submitting material to the docket, call Cheryl Collins, Program Manager, Docket Operations, telephone 202-366-9826.

SUPPLEMENTARY INFORMATION:

Background and Purpose

As required by 33 U.S.C. 1605(c) and 33 CFR 81.18, the Coast Guard gives notice that it has issued a certificate of alternative compliance for the P/V LUCIA. The vessel's primary purpose is a passenger-touring vessel that operates on the Chicago River and near coastal waters of Lake Michigan in Southern Illinois. The unique design of the vessel did not lend itself to full compliance with Annex I of the Inland Rules Act, 33 U.S.C. 2071.

The Commandant, U.S. Coast Guard, certifies that full compliance with the Inland Rules Act would interfere with the special functions and intent of the vessel and would not significantly enhance the safety of the vessel's operation. Placing the masthead light in the required position would interfere with vessel's ability to navigate on the Chicago River, which has several low bridges making the vessel vulnerable to damage.

The Certificate of Alternative Compliance authorizes the P/V LUCIA to deviate from the requirements set forth in Annex I of the Inland Rules Act by placing its masthead light on the pilothouse visor at a height of 13′7″ above the main deck.

This notice is issued under authority of 5 U.S.C. 552(a), 33 U.S.C. 1605(c), and 33 CFR 81.18.

Dated: April 3, 2015.
P. Albertson,
Captain, U.S. Coast Guard, Chief, Prevention Division, Ninth Coast Guard District.

[FR Doc. 2015-11813 Filed 5-14-15; 8:45 am]

BILLING CODE 9110-04-P